DEPARTMENT OF HOMELAND SECURITY

Coast Guard

33 CFR Part 117

[Docket No. USCG-2015-0848]

Drawbridge Operation Regulations; Mantua Creek, Paulsboro, NJ and Raccoon Creek, Bridgeport, NJ

AGENCY: Coast Guard, DHS.

ACTION: Notice of deviation from drawbridge regulations.

SUMMARY: The Coast Guard has issued a temporary deviation from the operating schedules that govern the S.R. 44 Bridge over Mantua Creek, mile 1.7, at Paulsboro, NJ and Route 130 Bridge over Raccoon Creek, mile 1.8, at Bridgeport, NJ. This deviation allows the bridges to remain in the closed-to-navigation position to facilitate the 2015 Papal Visit to Philadelphia, PA.

DATES: This deviation is effective from 7 a.m. on September 26, 2015, to 11 p.m. on September 28, 2015.

ADDRESSES: The docket for this deviation, [USCG-2015-0848], is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Hal R. Pitts, Bridge Administration Branch Fifth District, Coast Guard; telephone (757) 398-6222, email Hal.R.Pitts@uscg.mil. If you have questions on viewing the docket, call Cheryl Collins, Program Manager, Docket Operations, telephone 202-366-9826.

SUPPLEMENTARY INFORMATION: The New Jersey Department of Transportation, who owns and operates the S.R. 44 Bridge and Route 130 Bridge, has requested a temporary deviation from the current operating regulations set out in 33 CFR 117.729 and 117.741, respectively, to facilitate movement of vehicles during the 2015 Papal Visit to Philadelphia, PA.

Under the normal operating schedule for the S.R. 44 Bridge over Mantua Creek, mile 1.7, at Paulsboro, NJ and Route 130 Bridge over Raccoon Creek, mile 1.8, at Bridgeport, NJ; the bridges shall open on signal from May 1 through October 31, from 7 a.m. to 11 p.m.; and all other times, if at least four hours notice is given. The vertical clearances in the closed-to-navigation position of the S.R. 44 Bridge and Route 130 Bridge are 25 feet and 4 feet, respectively, above mean high water.

Under this temporary deviation, the bridges will be closed to navigation from 7 a.m. to 11 p.m. each day starting September 26 through September 28, 2015, except for scheduled daily openings at 7 a.m. and 7 p.m. The bridges will operate per the normal operating schedules between 11 p.m. and 7 a.m. Mantua Creek and Raccoon Creek are used by a variety of vessels including small commercial fishing vessels and recreational vessels. The Coast Guard has carefully coordinated the restrictions with commercial and recreational waterway users.

Vessels able to pass through the bridges in the closed position may do so at anytime. The bridges will be able to open for emergencies and there is no alternate route for vessels unable to pass through the bridges in the closed position. The Coast Guard will also inform the users of the waterways through our Local and Broadcast Notice to Mariners of the change in operating schedules for these bridges so that vessels can arrange their transits to minimize any impacts caused by this temporary deviation.

In accordance with 33 CFR 117.35(e), the drawbridges must return to their regular operating schedules immediately at the end of the effective period of this temporary deviation. This deviation from the operating regulations is authorized under 33 CFR 117.35.

Dated: September 10, 2015.
Hal R. Pitts,
Bridge Program Manager, Fifth Coast Guard District.

[FR Doc. 2015-23341 Filed 9-16-15; 8:45 am]

BILLING CODE 9110-04-P.